FOREIGN CLAIMS SETTLEMENT COMMISSION

[F.C.S.C. Meeting and Hearing Notice No. 10-09]

Sunshine Act Meeting

The Foreign Claims Settlement Commission, pursuant to its regulations (45 CFR Part 503.25) and the Government in the Sunshine Act (5 U.S.C. 552b), hereby gives notice in regard to the scheduling of open meetings and oral hearings for the transaction of Commission business and other matters specified, as follows:

Date and time | Subject matter
Tuesday, Jan. 12, 2010:
10:30 a.m. | Issuance of Proposed Decisions in claims against Albania and Libya.
| Oral hearing on objections to Commission's Proposed Decision in:
2 p.m. | Claim of Estate of Mostafa F. Karim, Claim No. LIB-I-052.
Wednesday, Jan. 13, 2010:
| Oral hearing on objections to Commission's Proposed Decision in:
9 a.m. | Claim of Richard Melhart, Claim No. LIB-I-005.
10 a.m. | Claim of David Jodice, Claim No. LIB-I-008.
11 a.m. | Claim of Salvatore Ferrigno, Claim No. LIB-I-044 and Claim of Francesco Zerilli, Claim No. LIB-I-049.

Status: Open.

All meetings are held at the Foreign Claims Settlement Commission, 600 E Street, NW., Washington, DC. Requests for information, or advance notices of intention to observe an open meeting, may be directed to: Administrative Officer, Foreign Claims Settlement Commission, 600 E Street, NW., Room 6002, Washington, DC 20579. Telephone: (202) 616-6975.

Jaleh F. Barrett,
Chief Counsel.

[FR Doc. E9-30828 Filed 12-23-09; 4:15 pm]

BILLING CODE 4410-BA-P